NUCLEAR REGULATORY COMMISSION

Pre-PIRT Meeting on Triso Coated Fuel Particles

AGENCY: Nuclear Regulatory Commission.

ACTION: Notice of meeting.

Purpose: The Nuclear Regulatory Commission will hold a pre-PIRT (Phenomena Identification and Ranking Table) meeting to identify Phenomena and issues related to TRISO coated fuel particles in order to develop research program. PIRTs have been used at NRC since 1988, and they provide a structured way to obtain a technical understanding that is needed to address certain issues.

DATES: May 28-29, 2002 (9 a.m.-5 p.m. and 9 a.m.-3:30 p.m. respectively).

ADDRESSES: Rooms T-10C2 on May 28, 2002 and T-2C2 on May 29, 2002 of the Nuclear Regulatory Commission, 11545 Rockville Pike, Rockville, MD.

Participants

This is a technical workshop to be conducted as roundtable discussions and presentation of handouts between the NRC staff and NRC and DOE contractors. Agenda will be provided to invited participants before the meeting. All handouts will be published as part of a NUREG/CR report. Invited NRC and DOE contractors are as follows:

Brent Boyack, Los Alamos National Laboratory

Syd Ball, Oak Ridge National Laboratory

Robert Morris, Oak Ridge National Laboratory

David Petti, Idaho National Engineering Laboratory

Dana Powers, Sandia National Laboratory

Randy Gaunt, Sandia National Laboratory

NRC Staff

Public Attendance

The meeting will be conducted as roundtable discussions between the invited participants and NRC staff. Although the focus of discussions will be among invited participants and NRC staff, the meeting is open to public. Members of the audience will be given opportunity to comment before the lunch breaks and at the end of the meetings each day. They may also submit written comments after the meeting. All written comments should be received within 15 days of conclusion of the meeting. All written comments which are received within 15 days of the conclusion of the meeting will be published as part of the NUREG/CR report.

SUPPLEMENTARY INFORMATION: The meeting agenda will be posted on the NRC Web site at www.nrc.gov/RES/meetings.html by May 20, 2002. Attendees will need to obtain a visitor badge at the TWFN building lobby and an escort is required.

FOR FURTHER INFORMATION CONTACT: Dr. Frank Odar, SMSAB, Division of Systems Analysis and Regulatory Effectiveness, Office of Nuclear Regulatory Research, Washington, DC 20555-0001, telephone (301) 415-6500.

Dated at Rockville, Maryland, this 30th day of April 2002.
For the Nuclear Regulatory Commission.
Farouk Eltawila,
Director, Division of Systems Analysis and Regulatory Effectiveness, Office of Nuclear Regulatory Research.

[FR Doc. 02-11137 Filed 5-3-02; 8:45 am]

BILLING CODE 7590-01-P